DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 27, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System Backyard Animal Keeping 2024 Study.

OMB control number: 0579-XXXX.

Summary of collection: Under the Animal Health Protection Act of 2002 (7 U.S.C. 8301 et seq.), the Secretary of Agriculture is authorized to protect the health of livestock, poultry, and aquaculture populations in the United States by preventing the introduction and interstate spread of contagious, infectious, or communicable diseases of livestock, poultry, and aquatic animals and for eradicating such diseases within the United States when feasible. This authority has been delegated to the Animal and Plant Health Inspection Service (APHIS). APHIS is the only Federal agency responsible for collecting data on livestock and poultry health. As part of this mission, APHIS operates the National Animal Health Monitoring System (NAHMS) which collects statistically valid and scientifically sound data on the prevalence and economic importance of livestock, poultry, and aquaculture diseases and practices. NAHMS' studies have evolved into a collaborative government and industry initiative to help determine the most effective means of preventing and controlling diseases of livestock and poultry. NAHMS will conduct a national data collection for backyard animal keeping through a national study, Backyard Animal Keeping 2024.

APHIS will conduct two surveys using electronic questionnaires. The first survey will obtain national estimates of ownership of poultry, pigs, rabbits, and goats, and provide baseline information on ownership practices. A second survey will be performed to estimate the prevalence of chicken, pig, rabbit, and goat ownership in two of the four cities previously studied in the NAHMS Poultry 2010 study, as well as describe respondents' beliefs about chicken ownership. The study results will also be used to learn more about backyard animal keeping and food security status.

Need and use of the information: Information collected will enable APHIS to obtain national estimates of the percentage of households that own poultry, pigs, rabbits, and goats in urban and non-urban areas of the United States; describe animal management practices, such as information sources owners use to learn about animal health, access to veterinary care, length of ownership, and biosecurity practices including those relevant to antimicrobial stewardship; for households that both own and do not own poultry, pigs, rabbits, and goats, describe opinions of backyard and urban ownership of chickens, and, for non-owners only, describe any contact with live poultry and intention to own any one of these species of interest in the future; estimate the prevalence of chicken, pig, rabbit, and goat ownership in two of the cities surveyed on urban chicken ownership in 2012 (Denver, Colorado and Miami, Florida), and describe respondents' beliefs about chicken ownership to determine changes in prevalence and beliefs between 2012 and 2024; and conduct a preliminary evaluation of the relationship between backyard animal keeping and food security status. Without the aforementioned data collection, the United States' ability to collect and analyze information on the national prevalence of these species of interest and to obtain data on animal management practices and biosecurity practices would be reduced or nonexistent.

Description of respondents: Households or individuals.

Number of respondents: 112,745.

Frequency of responses: Reporting: Other (one time).

Total burden hours: 4,080.

Ruth Brown,
Departmental Information Collection Clearance Officer.

[FR Doc. 2023-23785 Filed 10-26-23; 8:45 am]

BILLING CODE 3410-34-P